DEPARTMENT OF HEALTH AND HUMAN SERVICES

Food and Drug Administration

[Docket No. FDA-2016-N-0001]

Menu Labeling Public Workshop; Public Meeting

AGENCY: Food and Drug Administration, HHS.

ACTION: Notice of public meeting.

SUMMARY: The Food and Drug Administration (FDA or we) is announcing a third public meeting to discuss menu labeling requirements. We announced the first two public meetings in a separate Federal Register notice earlier this year. The purpose of the public meetings is to help the regulated industry comply with the requirements of the menu labeling final rule.

DATES: See “How to Participate in the Public Meeting” in the SUPPLEMENTARY INFORMATION section of this document for dates, times, and addresses of the public meeting, closing date for advance registration, requesting special accommodations due to disability, and other information.

ADDRESSES: See “How to Participate in the Public Meeting” in the SUPPLEMENTARY INFORMATION section of this document.

FOR FURTHER INFORMATION CONTACT: For questions about registering for this meeting or for special accommodations due to disability, contact Cindy de Sales, The Event Planning Group, 8720 Georgia Ave., Suite 801, Silver Spring, MD 20910, 240-316-3207, FAX: 240-652-6002, email: rsvp@tepgevents.com.

For general questions about the public meeting, contact Loretta A. Carey, Center for Food Safety and Applied Nutrition (HFS-820), Food and Drug Administration, 5001 Campus Dr., College Park, MD 20740, 240-402-2371.

SUPPLEMENTARY INFORMATION:

I. Background

In the Federal Register of December 1, 2014 (79 FR 71156), we published a final rule on nutrition labeling of standard menu items in restaurants and similar retail food establishments; the rule is codified at Title 21 of the Code of Federal Regulations, section 101.11. The final rule implements section 403(q)(5)(H) of the Federal Food, Drug, and Cosmetic Act (the FD&C Act) (21 U.S.C. 343(q)(5)(H)), which, in general, requires that restaurants and similar retail food establishments that are part of a chain with 20 or more locations, doing business under the same name, and offering for sale substantially the same menu items, provide calorie information for standard menu items (including food on display and self-service food); provide, upon request, additional written nutrition information for standard menu items; and comply with other requirements described in section 403(q)(5)(H) of the FD&C Act.

On December 18, 2015, the President signed the Consolidated Appropriations Act, 2016 (Pub. L. 114-113). Section 747 of the Consolidated Appropriations Act states that none of the funds made available under the Consolidated Appropriations Act may be used to implement, administer, or enforce the final rule entitled “Food Labeling; Nutrition Labeling of Standard Menu Items in Restaurants and Similar Retail Food Establishments” until 1 year after the date of publication of a Level 1 guidance with respect to nutrition labeling of standard menu items in restaurants and similar retail food establishments.

In the Federal Register of May 5, 2016 (81 FR 27067), we announced the availability of the guidance for industry entitled “A Labeling Guide for Restaurants and Retail Establishments Selling Away-From-Home Foods—Part II (Menu Labeling Requirements in Accordance with 21 CFR 101.11).” The guidance uses a question and answer format and is intended to help restaurants and similar retail food establishments covered by the final rule comply with the nutrition labeling requirements of the final rule. In accordance with the Consolidated Appropriations Act, 2016, enforcement of the final rule will commence May 5, 2017.

We have made education of the menu labeling requirements a high priority, and this is our third menu labeling workshop to educate interested members of the public, especially the regulated industry, about the menu labeling requirements. We announced the first two public meetings in a separate Federal Register notice on June 15, 2016 (81 FR 39056). Interested persons can continue to submit general questions to CalorieLabeling@fda.hhs.gov.

II. Purpose and Format of the Public Meeting

The purpose of this public meeting is to help the regulated industry comply with the requirements of the menu labeling final rule. On the morning of day one of the meeting, we will give a slide presentation on the menu labeling requirements. (Please note the slide presentation will only be presented on day one.) The afternoon of day one and all of day two will consist of consultation sessions with FDA staff where individual companies (limited to two members per company) may discuss their specific questions and concerns. Each consultation session is limited to 15 minutes to help ensure that enough time is available to accommodate each company that requests a consultation. We recommend that participants in the consultation session prepare their questions in advance due to the limited time available.

III. How To Participate in the Public Meeting

We encourage all persons who wish to attend the meeting to register in advance of the meeting and to indicate whether they are requesting a consultation session. There is no fee to register for the public meeting, and registration will be on a first-come, first-served basis. Early registration is recommended to facilitate planning of the consultation sessions and because seating is limited. We encourage you to use electronic registration if possible (see the address in table 1).

Table 1 provides information on participation in the public meeting.

Table 1—Information on Menu Labeling Meeting
Activity | Date | Electronic address | Address
Public meeting | November 16 and 17, 2016, 8 a.m. to 4:30 p.m |  | Holiday Inn Hotel & Suites Oakland Airport, 77 Hegenberger Rd., Oakland, CA 94621.
Advance registration | by November 9, 2016 | http://www.cvent.com/d/zfq6sm | We encourage you to use electronic registration if possible.¹
Request special accommodations due to a disability | by November 9, 2016 |  | See FOR FURTHER INFORMATION CONTACT.
¹ You may also register via mail, fax, or email. Please include your name, title, firm name, address, and phone and fax numbers in your registration information and send to: Cindy de Sales, The Event Planning Group, 8720 Georgia Ave., Suite 801, Silver Spring, MD 20910, 240-316-3207, FAX: 240-652-6002, email: rsvp@tepgevents.com.

IV. Transcripts

Transcripts of the workshop will not be prepared.

Dated: September 13, 2016.
Leslie Kux,
Associate Commissioner for Policy.

[FR Doc. 2016-22337 Filed 9-15-16; 8:45 am]

BILLING CODE 4164-01-P